DEPARTMENT OF HEALTH AND HUMAN SERVICES

Centers for Disease Control and Prevention

[Docket No. CDC-2025-0454]

Meeting of the Advisory Committee on Immunization Practices; Amended Notice of Meeting

AGENCY: Centers for Disease Control and Prevention, Department of Health and Human Services (HHS).

ACTION: Notice.

SUMMARY: In accordance with the Federal Advisory Committee Act, the Centers for Disease Control and Prevention (CDC) announces an amendment to the following meeting of the Advisory Committee on Immunization Practices (ACIP). The meeting is open to the public.

FOR FURTHER INFORMATION CONTACT: ACIP Secretariat, Advisory Committee on Immunization Practices, Centers for Disease Control and Prevention, 1600 Clifton Road NE, Mailstop H21-12, Atlanta, Georgia 30329-4027. Email: ACIP@cdc.gov.

SUPPLEMENTARY INFORMATION: Notice is hereby given of a change in the meeting of the Advisory Committee on Immunization Practices (ACIP); September 18, 2025, from 10 a.m. to 5 p.m., EDT and September 19, 2025, from 8:30 a.m. to 3 p.m., EDT.

Notice of the virtual meeting was published in the Federal Register on August 29, 2025, Volume 90, Number 166, pages 42245-42246.

The meeting notice is being amended to update the dates, which should read as follows:

The meeting will be held on September 18, 2025, from 10 a.m. to 5:30 p.m., EDT and September 19, 2025, from 8:30 a.m. to 3 p.m., EDT.

The meeting notice is also being amended to remove Respiratory Syncytial Virus (RSV) vaccines in the Matters to be Considered, which should read as follows:

The agenda will include discussions on COVID-19 vaccines; Hepatitis B vaccine; and measles, mumps, rubella, varicella (MMRV) vaccine. The agenda will include updates on ACIP Workgroups. Recommendation votes may be scheduled for COVID-19 vaccines, Hepatitis B vaccine, and MMRV vaccine. Vaccines for Children (VFC) may be scheduled for COVID-19 vaccines, Hepatitis B vaccine, and MMRV vaccine. Agenda items are subject to change as priorities dictate. For more information on the meeting agenda, visit https://www.cdc.gov/acip/meetings/index.html.

The Director, Office of Strategic Business Initiatives, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Office of Strategic Business Initiatives, Office of the Chief Operating Officer, Centers for Disease Control and Prevention.

[FR Doc. 2025-17821 Filed 9-15-25; 8:45 am]

BILLING CODE 4163-18-P